Proclamation 7497 of November 9, 2001

National Alzheimer's Disease Awareness Month, 2001

By the President of the United States of America

A Proclamation

Approximately four million Americans suffer from Alzheimer's disease. It is a progressive degenerative disorder of the brain that robs those affected of their memory and much of their mental and physical function, leading to their total dependence on caregivers, and ultimately death. Slightly more than half of Alzheimer's disease patients receive care from their family and friends at home. Years of providing for the emotional, physical, and financial needs of a loved one with this difficult disease can be emotionally painful and exhausting for a caregiver.

The chance of having Alzheimer's disease rises significantly with age, and as older Americans become a larger percentage of our Nation's population, the number of people expected to develop Alzheimer's will rise dramatically. It has been estimated that 14 million Americans, mostly seniors, will suffer from Alzheimer's by the middle of this century.

My Administration is strongly committed to meeting the challenges of Alzheimer's disease by increasing funding for Federal medical research programs as well as providing improved support to Alzheimer's patients and their families and care givers. Through the efforts of scientists at the National Institutes of Health (NIH) and in the private sector, we are making great strides in defining genetic and environmental risks, diagnosing the disease in its earliest stages, and testing potential treatments. In addition, the NIH and the Department of Veterans Affairs are sponsoring research that focuses on improving care and easing the burden on those providing care at home and in nursing facilities. Finally, the Administration on Aging is working under the Alzheimer's Disease Demonstration Project Grants to States Program to expand the availability of diagnostic and support services available for Alzheimer's disease patients, their families, and their caregivers.

Our Nation's medical research programs have produced significant advances in the delivery of health care for our older generations. In recent years, our seniors' retirement years have been fuller, more productive, and healthier. Despite this overall improvement in health care, Alzheimer's disease continues to take many of the best and most enjoyable years of life from millions of seniors. Much progress has been made in the study of Alzheimer's disease, but the fight to determine what causes it and to develop effective ways to treat and prevent the disease continues.

As we observe National Alzheimer's Disease Awareness Month, I call on all Americans to learn more about the disease and to take time to honor and support Alzheimer's disease patients and their families. We should also acknowledge the scientists, physicians, nurses, and other medical and health professionals who are working diligently to advance knowledge and understanding of Alzheimer's disease.

NOW, THEREFORE, I, GEORGE W. BUSH, President of the United States of America, by virtue of the authority vested in me by the Constitution and laws of the United States, do hereby proclaim November 2001, as National Alzheimer's Disease Awareness Month. I call upon the people of the United States to observe this month with appropriate programs and activities.

IN WITNESS WHEREOF, I have hereunto set my hand this ninth day of November, in the year of our Lord two thousand one, and of the Independence of the United States of America the two hundred and twenty-sixth.

B

[FR Doc. 01-28802

Filed 11-14-01; 9:34 am]

Billing code 3195-01-P